DEPARTMENT OF COMMERCE

International Trade Administration

North American Free-Trade Agreement, Article 1904; NAFTA Panel Reviews; Request for Panel Review

AGENCY: NAFTA Secretariat, United States Section, International Trade Administration, Department of Commerce.

ACTION: Correction to Notice of First Request for Panel Review.

SUMMARY: The Notice of First Request in NAFTA Case No. USA-CDA-2005-1904-04 published in the Federal Register on June 13, 2005 listed an incorrect date for the first request filing on behalf of Abitibi-Consolidated Company of Canada (formerly known as Donohue Fores Products Inc.), Produits Forestiers Petit Paris Inc., Produits Forestiers la Tuque Inc., and Societe en Commandite Scierie Opitciwan. The correct date of filing was May 31, 2005.

Dated: June 13, 2005.
Caratina L. Alston,
United States Secretary, NAFTA Secretariat.

[FR Doc. 05-12045 Filed 6-17-05; 8:45 am]

BILLING CODE 3510-GT-P